FEDERAL COMMUNICATIONS COMMISSION

[EB Docket No. 07-264; DA 07-4675]

Lonnie L. Keeney, Amateur Radio Operator and Licensee of Amateur Radio Station KB9RFO

AGENCY: Federal Communications Commission.

ACTION: Notice.

SUMMARY: This document commences a hearing proceeding by directing Lonnie L. Keeney, Amateur Radio Operator and Licensee of Amateur Radio Station KB9RFO, to show why the license of Amateur Radio Station KP9FO should not be revoked and whether, in light of a felony conviction against him, he remains qualified to be a Commission licensee.

DATES: Petitions by persons desiring to participate as a party in the hearing, pursuant to 47 CFR 1.223, may be filed no later than 30 days after publication of this notice in the Federal Register. See SUPPLEMENTARY INFORMATION section for dates that named parties should file appearances.

ADDRESSES: Please file documents with the Investigations and Hearings Division, Enforcement Bureau, Federal Communications Commission, Room 4-C330, 445 12th Street, NW., Washington, DC 20554.

FOR FURTHER INFORMATION CONTACT: Judy Lancaster, Investigations and Hearings Division, Enforcement Bureau at (202) 418-1420; Jennifer A. Lewis, Assistant Chief, Investigations and Hearings Division, Enforcement Bureau at (202) 418-1420.

SUPPLEMENTARY INFORMATION: This is a summary of the Order to Show Cause, DA 07-4675, released November 20, 2007. The full text of the Order to Show Cause is available for inspection and copying from 8 a.m. until 4:30 p.m., Monday through Thursday or from 8 a.m. until 11:30 a.m. on Friday at the FCC Reference Information Center, Room CY-A257, 445 12th Street, SW., Washington, DC 20554. The complete text may be purchased from the Commission's copy contractor, Best Copy and Printing, Inc. (BCPI), Portals II, 445 12th Street, NW., Room CY-B402, Washington, DC 20554, telephone (202) 488-5300, facsimile (202) 488-5563, or you may contact BCPI at the Web site: http://www.BCPIWEB.com. When ordering documents for BCPI, please provide the appropriate FCC document number, FCC 06-124. The Order is also available on the Internet at the Commission's Web site through its Electronic Document Management System (EDOCS): http://hraunfoss.fcc.gov/edocs-public/SilverStream/Pages/edocs.html. Alternative formats are available to persons with disabilities (Braille, large print, electronic files, audio format); send an e-mail to fcc504@fcc.gov or call the Consumer and Governmental Affairs Bureau at 202-418-0530 (voice), (202) 418-0432 (TTY).

Summary of the Order: In the Order to Show Cause, the Commission commences a hearing proceeding to determine the effect of Mr. Keeney's felony conviction(s) on his qualifications to be and to remain a Commission licensee and, in light of the evidence adduced pursuant to the foregoing issue, whether Mr. Keeney is qualified to be and to remain a Commission licensee.

The Commission received a compliant alleging that Mr. Keeney had been convicted of felony child molestation. The Commission conducted an investigation and determined that, in 2002, Mr. Keeney was charged in the Criminal Division of the Putnam Circuit Court, State of Indiana, with two counts of child molestation in violation of Indiana Code section 35-42-4-3, a Class A felony, and section 35-42-4-3, a Class C felony. Pursuant to a plea agreement, Mr. Keeney pled guilty to one count of felony child molestation, and, on December 10, 2002, was sentenced by the Putnam Circuit Court to six years of incarceration with the Indiana Department of Corrections. The Court ordered that Mr. Keeney serve one year of the sentence with credit for 35 days already served, and suspended the remaining five years of that sentence, but placed Mr. Keeney on supervised probation for five years. Mr. Keeney remains on probation.

The Commission determined that Mr. Keeney's felony conviction raises a substantial and material question of fact as to his qualifications to be and to remain a Commission licensee and may warrant revocation of the license of Amateur Station KP9RFO. Thus, pursuant to sections 312(a) and 312(c) of the Communications Act of 1934, as amended, 47 U.S.C. 312(a) and (c) and section 1.91 of the Commission's rules, 47 CFR 1.91, the Order to Show Cause directs Lonnie L. Keeney to show cause why the license of Amateur Radio Station KP9FRO should not be revoked, upon the following issues: (a) To determine the effect of Lonnie L. Keeney's felony conviction(s) on his qualifications to be and to remain a Commission licensee; and (b) to determine, in light of the evidence adduced pursuant to the foregoing issue, whether Lonnie L. Keeney is qualified to be and to remain a Commission licensee; and (c) to determine in light of the evidence adduced pursuant to the foregoing issues, whether his Amateur Radio License KP9FRO should be revoked.

Copies of the Order to Show Cause were sent by certified mail, return receipt requested, to Lonnie L. Keeney. To avail himself of the opportunity to be heard, Lonnie L. Keeney, pursuant to section 1.91(c) and section 1.221 of the Commission's rules, 47 CFR 1.91(c) and 47 CFR 1.221, in person or by his attorney, must within 30 days of the release of this Order, file in triplicate a written notice of appearance stating an intention to appear on the date fixed for the hearing and present evidence on the issues specified in this Order. Lonnie L. Keeney pursuant to section 73.3594 of the Commission's rules, 47 CFR 73.3594, shall give notice of the hearing within the time and in the manner prescribed in 47 CFR 73.3594, and shall advise the Commission of the publication of such notice as required by 47 CFR 73.3594(g).

Federal Communications Commission.
Hillary DeNigro,
Chief Investigations and Hearings Division, Enforcement Bureau.

[FR Doc. 07-6175 Filed 12-20-07; 8:45 am]

BILLING CODE 6712-01-M